OFFICE OF THE UNITED STATES TRADE REPRESENTATIVE

Request for Public Comments To Compile the Reports on Sanitary and Phytosanitary and Technical Barriers to Trade

AGENCY: Office of the United States Trade Representative.

ACTION: Notice and Request for Comments.

SUMMARY: Pursuant to section 181 of the Trade Act of 1974, as amended (19 U.S.C. 2241), the Office of the United States Trade Representative (USTR) is required to publish annually the Reports on Sanitary and Phytosanitary and Technical Barriers to Trade. With this notice, the Trade Policy Staff Committee (TPSC) is requesting interested persons to submit comments to assist it in identifying significant sanitary and phytosanitary and standards-related barriers to U.S. exports of goods for inclusion in these two reports.

These reports were published as the 2012 Report on Sanitary and Phytosanitary Measures (2012 SPS Report) and the 2012 Report on Technical Barriers to Trade (2012 TBT Report) respectively. The TPSC invites written comments from the public on issues that USTR should examine in preparing the SPS and TBT Reports.

DATES: Public comments are due not later than November 15, 2012.

ADDRESSES: Submissions should be made via the Internet at www.regulations.gov under the following dockets (based on the subject matter of the submission):

SPS Measures: USTR-2012-0032.

Standards-related Measures: USTR-2012-0033.

For alternatives to on-line submissions please contact TBD USTR (202-395-3475). The public is strongly encouraged to file submissions electronically rather than by facsimile or mail.

FOR FURTHER INFORMATION CONTACT: Questions regarding the SPS Report or substantive questions or comments concerning SPS measures should be directed to Jane Doherty, Director of Sanitary and Phytosanitary Affairs, USTR (202-395-6127). Questions regarding the TBT Report or substantive questions or comments concerning standards-related measures should be directed to Jennifer Stradtman, Director, Technical Barriers to Trade, USTR (202-395-4498).

SUPPLEMENTARY INFORMATION: The SPS and TBT Reports set out inventories of SPS and standards-related non-tariff barriers to trade. These inventories facilitate U.S. negotiations aimed at reducing or eliminating these barriers. The reports also provide a valuable tool in enforcing U.S. trade laws and strengthening the rules-based trading system. The 2012 and earlier SPS and TBT Reports may be found on USTR's Internet Home Page (http://www.ustr.gov) under “USTR News” under the tab “Reports”.

To ensure compliance with the applicable statutory mandate and the Obama Administration's commitment to focus on the most significant foreign trade barriers, USTR will be guided by the existence of active private sector interest in deciding which restrictions to include in the SPS and TBT Reports.

Topics on which the TPSC Seeks Information: To assist USTR in the preparation of the SPS and TBT Reports, commenters should submit information related to:(1) SPS measures; or(2) standards-related measures (including standards, technical regulations, and conformity assessment procedures). Such measures should constitute significant foreign trade barriers to U.S. exports.

SPS and TBT Reports: On April 2, 2012, USTR released two reports focusing on foreign trade barriers—one on SPS measures (SPS Report) and the other on standards-related measures (TBT report). USTR also released SPS and TBT Reports in 2011 and 2010. These reports serve as tools to bring greater attention and focus to resolving SPS and standards-related measures that may be inconsistent with international trade agreements to which the United States is a party or that otherwise act as significant foreign barriers to U.S. exports. USTR plans to use comments on SPS and standards-related measures submitted pursuant to this notice in producing these two reports.

The following information describing SPS and standards-related measures may help commenters to file submissions on particular foreign trade barriers under the appropriate docket.

SPS Measures: Generally, SPS measures are measures applied to protect the life or health of humans, animals, and plants from risks arising from additives, contaminants, pests, toxins, diseases, or disease-carrying and causing organisms. SPS measures can take such forms as specific product or processing standards, requirements for products to be produced in disease-free areas, quarantine regulations, certification or inspection procedures, sampling and testing requirements, health-related labeling measures, maximum permissible pesticide residue levels, and prohibitions on certain food additives.

Standards-related Measures: Standards-related measures comprise standards, technical regulations, and conformity assessment procedures, such as mandatory process or design standards, labeling or registration requirements, and testing or certification procedures. Standards-related measures can be applied not only to industrial products but to agricultural products as well, such as food nutrition labeling schemes and food quality or identity requirements.

For further information on SPS and standards-related measures and additional detail on the types of comments that would assist USTR in identifying and addressing significant trade-restrictive SPS and standards-related measures, please see “Supporting & Related Materials” under dockets USTR-2012-0032 and USTR-2012-0033 at www.regulations.gov. The previously released SPS and TBT Reports also contain extensive information on SPS and standards-related measures that commenters may find useful in preparing comments in response to this notice.

In responding to this notice with respect to the two reports, commenters should place particular emphasis on any practices that may violate U.S. trade agreements. The TPSC is also interested in receiving new or updated information pertinent to the barriers covered in the 2012 SPS and TBT Reports as well as information on new barriers. If USTR does not include in the 2013 SPS or TBT Reports information that USTR receives pursuant to this notice, USTR will maintain the information for potential use in future discussions or negotiations with trading partners.

Estimate of Increase in Exports: Each comment should include an estimate of the potential increase in U.S. exports that would result from removing any foreign trade barrier the comment identifies, as well as a description of the methodology the commenter used to derive the estimate. Estimates should be expressed within the following value ranges: Less than $5 million; $5 to $25 million; $25 million to $50 million; $50 million to $100 million; $100 million to $500 million; or over $500 million. These estimates will help USTR conduct comparative analyses of a barrier's effect over a range of industries.

Requirements for Submissions: Commenters providing information on SPS or standards-related measures in more than one country should, whenever possible, provide a separate submission for each country.

In order to ensure the timely receipt and consideration of comments, USTR strongly encourages commenters to make on-line submissions, using the http://www.regulations.gov Web site. Comments should be submitted under one of the following dockets (depending on the subject of the comment):

SPS Measures: USTR-2012-0032.

Standards-related Measures: USTR-2012-0033.

To find these dockets, enter the pertinent docket number in the “Enter Keyword or ID” window at the http://www.regulations.gov home page and click “Search.” The site will provide a search-results page listing all documents associated with that docket number. Find a reference to this notice by selecting “Notices” under “Document Type” on the search-results page, and click on the link entitled “Submit a Comment.” (For further information on using the www.regulations.gov Web site, please consult the resources provided on the Web site by clicking on the “Help” tab.)

The http://www.regulations.gov Web site provides the option of making submissions by filling in a comments field, or by attaching a document. USTR prefers submissions to be provided in an attached document. If a document is attached, please identify the name of the country to which the submission pertains in the “Comments” field. For example: “See attached comment on SPS measures for (name of country)” or “See attached comment on standards-related measures for (name of country)”. USTR prefers submissions in Microsoft Word (.doc) or Adobe Acrobat (.pdf).

For any comments submitted electronically containing business confidential information, the file name of the business confidential version should begin with the characters “BC”. The top of any page containing business confidential information must be clearly marked “BUSINESS CONFIDENTIAL”. Any person filing comments that contain business confidential information must also file in a separate submission a public version of the comments. The file name of the public version of the comments should begin with the character “P”. The “BC” and “P” should be followed by the name of the person or entity submitting the comments. If a comment contains no business confidential information, the file name should begin with the character “P”, followed by the name of the person or entity submitting the comments.

Please do not attach separate cover letters to electronic submissions; rather, include any information that might appear in a cover letter in the comments themselves. Similarly, to the extent possible, please include any exhibits, annexes, or other attachments in the same file as the submission itself, not as separate files.

Public Inspection of Submissions

Comments will be placed in the docket and open to public inspection except confidential business information exempt from public inspection. Comments may be viewed on the http://www.regulations.gov Web site by entering the relevant docket number in the search field on the home page.

Douglas M. Bell,
Chair, Trade Policy Staff Committee.

[FR Doc. 2012-26537 Filed 10-29-12; 8:45 am]

BILLING CODE 3290-F3-P